DEPARTMENT OF DEFENSE

Office of the Secretary

[DOD-2006-OS-0077; 0790-AG31]

32 CFR Part 202

Department of Defense Restoration Advisory Boards

AGENCY: Department of Defense.

ACTION: Final rule; correction.

SUMMARY: The Department of Defense (DoD) published a final rule document on May 12, 2006 promulgating the Restoration Advisory Board (RAB) rule regarding the scope, characteristics, composition, funding, establishment, operation, adjournment, and dissolution of RABs. That rule implemented the requirement established in 10 U.S.C. 2705(d)(2)(A), which requires the Secretary of Defense to prescribe regulations regarding RABs. That rule was based on DoD's current policies for establishing and operating RABs, as well as the Department's experience over the past ten years. This document makes administrative corrections to the preamble of that document.

DATES: This rule is effective July 28, 2006.

FOR FURTHER INFORMATION CONTACT: Ms. Patricia Ferrebee, Office of the Deputy Under Secretary of Defense (Installations & Environment), 703-571-9060.

SUPPLEMENTARY INFORMATION: On Friday, May 12, 2006 (71 FR 27610), the Department of Defense published a final rule, “Department of Defense Restoration Advisory Boards”. On page 27612, Section B. 202.2, “Criteria for Establishment”, in the fourth paragraph, in the first sentence, the term “bi-annually” is corrected to read “biennially” and on page 27613, Section F., “Developing Operating Procedures”, in the sixth paragraph, in the second sentence, “§ 202.9(a)(3)” is corrected to read “§ 202.9(a)(4)”.

Dated: July 24, 2006.
L.M. Bynum,
OSD Federal Register Liaison Officer, Department of Defense.

[FR Doc. 06-6531 Filed 7-27-06; 8:45 am]

BILLING CODE 5001-06-M